DEPARTMENT OF THE INTERIOR

National Park Service

Notice of Inventory Completion: Alutiiq Museum and Archaeological Repository, Kodiak, AK

AGENCY: National Park Service, Interior.

ACTION: Notice.

Notice is here given in accordance with the Native American Graves Protection and Repatriation Act (NAGPRA), 25 U.S.C. 3003, of the completion of an inventory of human remains in the possession of the Alutiiq Museum and Archaeological Repository, Kodiak, AK. The human remains were removed from Larsen Bay, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Alutiiq Museum and Archaeological Repository professional staff in consultation with representatives of the Native Village of Larsen Bay.

In May of 1991, human remains representing a minimum of one individual were removed from the private property of Chris Knowles in the City of Larsen Bay, AK. The human remains were turned over to the Village Public Safety Office and then shipped to Kodiak, AK, where Alaska State Troopers determined the human remains to be prehistoric (file #940037897). In 1994, after another investigation was done on the human remains, the human remains were transferred to the Kodiak Area Native Association's Alutiiq Culture Center. In 1995, the human remains were transferred to the Alutiiq Museum and Archaeological Repository (number AM41). No known individual was identified. No associated funerary objects are present.

The 1994 investigation determined that the human remains are Native American, most likely Alutiiq. Based on these findings, officials of the Alutiiq Museum reasonably believe that the human remains are Alutiiq and related to the modern Native population of the Kodiak region. Specifically, the human remains are from an area traditionally used by the Native Village of Larsen Bay.

Officials of the Alutiiq Museum and Archaeological Repository have determined that, pursuant to 25 U.S.C. 3001 (9-10), the human remains described above represent the physical remains of one individual of Native American ancestry. Officials of the Alutiiq Museum and Archaeological Repository also have determined that, pursuant to 25 U.S.C. 3001 (2), there is a relationship of shared group identity that can be reasonably traced between the Native American human remains and the Native Village of Larsen Bay.

Representatives of any other Indian tribe that believes itself to be culturally affiliated with the human remains should contact Dr. Sven Haakanson, Jr., Executive Director, Alutiiq Museum and Archaeological Repository, 215 Mission Rd. Suite 101, Kodiak, AK 99615, telephone (907) 486-7004, before January 18, 2008. Repatriation of the human remains to the Native Village of Larsen Bay may proceed after that date if no additional claimants come forward.

Alutiiq Museum and Archaeological Repository is responsible for notifying the Native Village of Larsen Bay that this notice has been published.

Dated: November 6, 2007
Sherry Hutt,
Manager, National NAGPRA Program.

[FR Doc. E7-24647 Filed 12-18-07; 8:45 am]

BILLING CODE 4312-50-S